DEPARTMENT OF DEFENSE

Office of the Secretary

[Transmittal Nos. 12-24]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-24 with attached transmittal, policy justification, and Sensitivity of Technology.

Dated: July 17, 2012.
Aaron Siegel,
Alternate OSD Federal Register Liaison Officer, Department of Defense.

BILLING CODE 5001-06-P

BILLING CODE 5001-06-C

Transmittal No. 12-24

Notice of Proposed Issuance of Letter of Offer Pursuant to Section 36(b)(1) of the Arms Export Control Act, as amended

(i) Prospective Purchaser: Qatar

(ii) Total Estimated Value:

Major Defense Equipment * | $106 million
Other | $31 million
TOTAL | $137 million

(iii) Description and Quantity or Quantities of Articles or Services under Consideration for Purchase: 700 AGM-114K3A or AGM-114R3 HELLFIRE tactical missiles, 25 training missiles, containers, spare and repair parts, support and test equipment, publications and technical data, personnel and training equipment, U.S. Government and contractor logistics, engineering and technical support, and other related elements of program support.

(iv) Military Department: Navy (AAA)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: July 10, 2012

* as defined in Section 47(6) of the Arms Export Control Act.

Policy Justification

Qatar—AGM-114K3A or AGM-114R3 HELLFIRE Missiles

The Government of Qatar has requested a possible sale of 700 AGM-114K3A or AGM-114R3 HELLFIRE tactical missiles, 25 training missiles, containers, spare and repair parts, support and test equipment, publications and technical data, personnel and training equipment, U.S. Government and contractor logistics, engineering and technical support, and other related elements of program support. The estimated cost is $137 million.

This proposed sale will contribute to the foreign policy and national security of the United States by helping to improve the security of a friendly country that has been, and continues to be an important force for political stability and economic progress in the Middle East.

Qatar intends to use these missiles to counter current and future threats. This proposed sale will contribute to Qatar's military goal of updating its Anti-Surface Warfare capability while further enhancing its interoperability with the U.S. and other allies. This capability will serve to deter potential attacks against strategic targets across Qatar, to include infrastructure and resources vital to the security of the U.S.

The proposed sale of this weapon system will not alter the basic military balance in the region.

The prime contractor is Lockheed Martin Corporation in Orlando, Florida and Troy, Alabama. There are no known offset agreements proposed in connection with this sale.

Implementation of this proposed sale will not require the assignment of U.S. Government or contractor representatives to Qatar.

There will be no adverse impact on U.S. defense readiness as a result of this proposed sale.

Transmittal No. 12-24

Notice of Proposed Issuance of Letter of Offer Pursuant to Section 36(b)(1) of the Arms Export Control Act

Annex

Item No. vii

(vii) Sensitivity of Technology:

1. The AGM-114K3A or AGM-114R3 HELLFIRE II is a precision guided, subsonic missile with a maximum range of up to 8,000 meters. The missile does not contain sensitive technology and is Unclassified. However, it does contain hazardous material which requires hazardous material packaging, handling, and shipping. Releasable technical manuals are Unclassified.

2. If a technologically advanced adversary were to obtain knowledge of the specific hardware and software elements, the information could be used to develop countermeasures which might reduce weapon system effectiveness or be used in the development of a system with similar or advanced capabilities.

[FR Doc. 2012-17721 Filed 7-19-12; 8:45 am]

BILLING CODE 5001-06-P